DEPARTMENT OF HEALTH AND HUMAN SERVICES

Announcement of Availability of Funds for One Family Planning General Training and Technical Assistance Grant in Public Health Service Region VI

AGENCY: Office of Population Affairs, Office of Public Health and Science, Office of the Secretary, DHHS.

ACTION: Notice; correction.

SUMMARY: The Office of Population Affairs, OPHS, HHS published a notice in the Federal Register of Tuesday, April 11, 2006, announcing the availability of funds for one family planning general training and technical assistance grant. This notice contained an error. Language related to the review and selection process was not included. This Notice corrects the omission of the language related to collaborative selection of a grantee by the Regional Health Administrator, the Director, Office of Family Planning, and the Deputy Assistant Secretary for Population Affairs.

FOR FURTHER INFORMATION CONTACT: Susan B. Moskosky, 240-453-2888.

Correction

In the Federal Register of April 11, 2006, FR Doc. E6-5262, on page 18337, column 1, last paragraph, correct the first sentence to read as follows:

Final award decisions will be made collaboratively by the Regional Health Administrator (RHA) for PHS Region VI, in consultation with the Director, OFP and the Deputy Assistant Secretary for Population Affairs (DASPA).

Dated: May 1, 2006.
Susan B. Moskosky,
Director, Office of Family Planning, Office of Population Affairs.

[FR Doc. E6-6919 Filed 5-5-06; 8:45 am]

BILLING CODE 4150-34-P